DEPARTMENT OF ENERGY

Federal Energy Regulatory Commission

[Docket No. ER00-980-005, et al.]

Bangor Hydro-Electric Company, et al.; Electric Rate and Corporate Regulation Filings

October 29, 2001.

Take notice that the following filings have been made with the Commission:

1. Bangor Hydro-Electric Company

[Docket No. ER00-980-005]

Take notice that on October 25, 2001, Bangor Hydro-Electric Company submitted a Refund Report with the Federal Energy Regulatory Commission (Commission). Bangor Hydro has made all other refunds required by the settlement agreement.

Comment date: November 15, 2001, in accordance with Standard Paragraph E at the end of this notice.

2. Ameren Services Company

[Docket No. ER01-1914-001]

Take notice that on October 24, 2001, Ameren Services Company (ASC), the transmission provider, tendered for filing with the Federal Energy Regulatory Commission (Commission) Amended Service Agreement for Firm Point-to-Point Transmission Services between ASC and Entergy-Koch Trading, LP, f/k/a Axia Energy, Inc. (customer). ASC asserts that the purpose of the Agreement is to permit ASC to provide transmission service to customer pursuant to Ameren's Open Access Tariff.

Comment date: November 14, 2001, in accordance with Standard Paragraph E at the end of this notice.

3. Nevada Power Company

[Docket Nos.ER01-2754-001, ER01-2755-001, ER01-2757-001, ER01-2758-001, ER01-2759-001]

Take notice that on October 25, 2001, Nevada Power Company (Nevada Power) filed with the Federal Energy Regulatory Commission (Commission), pursuant to Section 205 of the Federal Power Act, an answer to a letter from the Commission Staff regarding Transmission Service Agreements filed in the above-referenced proceedings. As directed by the Staff, the answer was filed as an amendment to the Transmission Service Agreements.

Comment date: November 15, 2001, in accordance with Standard Paragraph E at the end of this notice.

4. GNE, LLC

[Docket No. ER02-159-000]

On October 24, 2001, GNE, LLC, filed with the Federal Energy Regulatory Commission (Commission) an application for market-based rate authorization to sell energy, capacity and specified ancillary services, waivers and exemptions and a request for an effective date of December 31, 2001 for its market-based rate authorization.

GNE, LLC is a Delaware limited liability company that will own and operate four hydroelectric plants located at or near Millinocket, Maine, with a total nameplate capacity of approximately 130 megawatts is seeking market-based rate authorization, waivers and exemptions, and a request for an effective date of December 31, 2001 for its market-based rate authorization in order to sell the output of the facilities to Maclaren Energy, Inc.

Comment date: November 14, 2001, in accordance with Standard Paragraph E at the end of this notice.

5. The Montana Power Company

[Docket No. ER02-161-000]

Take notice that on October 24, 2001, The Montana Power Company (Montana) tendered for filing with the Federal Energy Regulatory Commission (Commission) pursuant to 18 CFR 35.13 executed Network Integration Transmission Service Agreements with Advanced Silicon Materials LLC and Express Pipeline LLC under Montana's FERC Electric Tariff, Fourth Revised Volume No. 5 (Open Access Transmission Tariff).

A copy of the filing was served upon with Advanced Silicon Materials LLC and Express Pipeline LLC.

Comment date: November 14, 2001, in accordance with Standard Paragraph E at the end of this notice.

6. Erie Boulevard Hydropower, L.P.

[Docket No. ER02-162-000]

Take notice that on October 24, 2001, Erie Boulevard Hydropower, L.P. (Erie Boulevard) filed with the Federal Energy Regulatory Commission (Commission) the Power Purchase Agreement between Erie Boulevard and Niagara Mohawk Power Corporation dated as of March 16, 2001 (PPA). The filing is made pursuant to Erie Boulevard's authority to sell power at market-based rates under its Market-Based Rate Tariff, FERC Electric Tariff, Original Volume No. 1, approved by the Commission on June 17, 2001, in Docket No. ER99-1764-000.

Comment date: November 14, 2001, in accordance with Standard Paragraph E at the end of this notice.

7. Mid-Continent Area Power Pool

[Docket No. ER02-163-000]

Take notice that on October 24, 2001, the Mid-Continent Area Power Pool (MAPP), on behalf of its members that are subject to Commission jurisdiction as public utilities under Section 201(e) of the Federal Power Act, filed tendered for filing with the Federal Energy Regulatory Commission (Commission) a Notice of Termination for Short-Term and Non-Firm Point-To-Point Transmission Service Agreements between MAPP and El Paso Merchant Energy, L.P., formerly Coastal Merchant Energy, L.P. and originally Engage Energy US, L.P.

Comment date: November 14, 2001, in accordance with Standard Paragraph E at the end of this notice.

8. Entergy Services, Inc.

[Docket No. ER02-164-000]

Take notice that on October 24, 2001, Entergy Services, Inc., on behalf of Entergy Mississippi, Inc., tendered for filing with the Federal Energy Regulatory Commission (Commission) a unilaterally executed Interconnection and Operating Agreement with Reliant Energy Choctaw County LLC (Reliant), and a Generator Imbalance Agreement with Reliant.

Comment date: November 14, 2001, in accordance with Standard Paragraph E at the end of this notice.

9. Public Service Company of New Mexico

[Docket No. ER02-165-000]

Take notice that on October 25, 2001, Public Service Company of New Mexico (PNM) submitted for filing with the Federal Energy Regulatory Commission (Commission) a unilaterally executed service agreement with the City of Mesa, dated October 23, 2001, for electric power and energy sales at negotiated rates under the terms of PNM's Power and Energy Sales Tariff. PNM has requested an effective date of September 1, 2001 for the agreement. PNM's filing is available for public inspection at its offices in Albuquerque, New Mexico.

Copies of the filing have been sent to the City of Mesa and to the New Mexico Public Regulation Commission.

Comment date: November 15, 2001, in accordance with Standard Paragraph E at the end of this notice.

10. Calpine Construction Finance Company, L.P.

[Docket No. ER02-166-000]

Take notice that on October 24, 2001, Calpine Construction Finance Company, L.P. (CCFC) filed with the Federal Energy Regulatory Commission (Commission) an amended Direct Power Transaction Confirmation under its market-based rate schedule.

Comment date: November 14, 2001, in accordance with Standard Paragraph E at the end of this notice.

11. Cambridge Electric Light Company

[Docket No. ER02-167-000]

Take notice that on October 25, 2001, Cambridge Electric Light Company (Cambridge Electric) tendered for filing with the Federal Energy Regulatory Commission (Commission) an executed Interconnection Agreement between Cambridge Electric and Mirant Kendall, LLC (Mirant Kendall). Cambridge Electric also tendered for filing a Notice of cancellation of Rate Schedule FERC No. 41, which is an Interconnection and Site Agreement between Cambridge Electric and Mirant Kendall f/k/a Southern Energy new England, L.L.C. that was previously accepted by the Commission in Docket No. ER98-4088-000 as part of Cambridge Electric's sale of its generation assets to Mirant Kendall (Former Interconnection Agreement). Cambridge Electric states that all rights and obligations of the parties contained in the Former Interconnection Agreement that are still relevant have been subsumed into the new Interconnection Agreement.

Cambridge Electric request an effective date of December 24, 2001 and Notice of Cancellation become effective upon the same date.

Comment date: November 15, 2001, in accordance with Standard Paragraph E at the end of this notice.

12. Alabama Power Company

[Docket No. ER02-168-000]

Take notice that on October 25, 2001, Alabama Power Company (APC) filed with the Federal Energy Regulatory Commission (Commission) a Service Agreement for Supply of Electric Service to Electric Membership and Electric Cooperative Corporations under Rate Schedule REA-1 of its First Revised FERC Electric Tariff Original Volume No. 1 (Tariff). Pursuant to that Service Agreement, APC will provide electric service to Tombigbee Electric Cooperative, Inc. at a new Robert E. Crow Delivery Point located in Marion County, Alabama. In addition, APC is refiling the Tariff in its entirety to comply with the Commission's electric rate schedule designation requirements contained in the Commission's Order No. 614.

Comment date: November 15, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-27655 Filed 11-2-01; 8:45 am]

BILLING CODE 6717-01-P